DEPARTMENT OF HEALTH AND HUMAN SERVICES

National Institutes of Health

National Library of Medicine; Notice of Meetings

Pursuant to section 10(d) of the Federal Advisory Committee Act, as amended, notice is hereby given of a meeting of the National Library of Medicine Board of Scientific Counselors.

The meeting will be open to the public as indicated below. Individuals who plan to attend and need special assistance, such as sign language interpretation or other reasonable accommodations should notify the Contact Person listed below in advance of the meeting.

The meeting will be closed to the public as indicated below in accordance with the provisions set forth in section 552b(c)(6), Title 5 U.S.C., as amended for review, discussion, and evaluation of individual intramural programs and projects conducted by the NATIONAL LIBRARY OF MEDICINE, including consideration of personnel qualifications and performance, and the competence of individual investigators, the disclosure of which would constitute a clearly unwarranted invasion of personal privacy.

Name of Committee: National Library of Medicine Board of Scientific Counselors.

Date: October 15-16, 2020.

Open: October 15, 2020, 11:00 a.m. to 12:15 p.m.

Agenda: Program Discussion and Senior Investigator Report.

Place: Virtual Meeting.

Closed: October 15, 2020, 12:15 p.m. to 12:30 p.m.

Agenda: To review and evaluate personal qualifications, performance, and competence of individual investigators.

Open: October 15, 2020, 12:30 p.m. to 1:15 p.m.

Agenda: Senior Investigator Report

Closed: October 15, 2020, 1:15 p.m. to 1:30 p.m.

Agenda: To review and evaluate personal qualifications, performance, and competence of individual investigators

Open: October 15, 2020, 1:45 p.m. to 2:30 p.m.

Agenda: Senior Investigator Report

Closed: October 15, 2020, 2:30 p.m. to 2:45 p.m.

Agenda: To review and evaluate personal qualifications, performance, and competence of individual investigators

Open: October 15, 2020, 3:00 p.m. to 4:00 p.m.

Agenda: Poster Session

Closed: October 15, 2020, 4:15 p.m. to 4:45 p.m.

Agenda: Reports and Discussion

Open: October 16, 2020, 11:00 a.m. to 11:45 a.m.

Agenda: Senior Investigator Report

Place: Virtual Meeting

Closed: October 16, 2020, 11:45 a.m. to 12:00 p.m.

Agenda: To review and evaluate personal qualifications, performance, and competence of individual investigators

Closed: October 16, 2020, 12:30 p.m. to 1:30 p.m.

Agenda: Reports and Discussion

Open: October 16, 2020, 1:30 p.m. to 3:15 p.m.

Agenda: Updates and Planning Session

Contact Person: David Landsman, Ph.D., Chief, Computational Biology Branch, National Center for Biotechnology Information, National Library of Medicine, NIH, Building 38A, Room 6N601, Bethesda, MD 20892, 301-435-5981, landsman@ncbi.nlm.nih.gov.

Any member of the public may submit written comments no later than 15 days after the meeting. Any interested person may file written comments with the committee by forwarding the statement to the Contact Person listed on this notice. The statement should include the name, address, telephone number and when applicable, the business or professional affiliation of the interested person.

Open sessions of this meeting will be broadcast to the public and available for viewing at https://videocast.nih.gov on October 15-16, 2020. Please direct any questions to the Contact Person listed on this notice.

(Catalogue of Federal Domestic Assistance Program No. 93.879, Medical Library Assistance, National Institutes of Health, HHS)

Dated: August 25, 2020.
Ronald J. Livingston, Jr.,
Program Analyst, Office of Federal Advisory Committee Policy.

[FR Doc. 2020-19100 Filed 8-28-20; 8:45 am]

BILLING CODE 4140-01-P